DEPARTMENT OF COMMERCE

International Trade Administration

[C-570-913]

Certain New Pneumatic Off-the-Road Tires from the People's Republic of China: Extension of Time Limit for Preliminary Results of Countervailing Duty Administrative Review

AGENCY: Import Administration, International Trade Administration, Department of Commerce.

EFFECTIVE DATE: June 7, 2010.

FOR FURTHER INFORMATION CONTACT: Andrew Huston, Import Administration, International Trade Administration, U.S. Department of Commerce, 14th Street and Constitution Avenue, NW, Washington, DC 20230; telephone: (202) 482-4261.

SUPPLEMENTARY INFORMATION:

Background

On October 26, 2009, the Department of Commerce (the Department) published the initiation of the administrative review of the countervailing duty order on certain new pneumatic off-the-road tires from the People's Republic of China for the period December 17, 2007 through December 31, 2008. See Initiation of Antidumping and Countervailing Duty Administrative Reviews and Requests for Revocation in Part, 74 FR 54956 (October 26, 2009). This review covers one producer and exporter of the subject merchandise to the United States: Hebei Starbright Tire Co., Ltd.

Extension of Time Limit for the Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

Beginning on February 3, 2009, the Department received several submissions from Titan Tire Corporation, the petitioner in this proceeding, as well as Bridgestone Americas Tire Operations, LLC and Bridgestone Americas, Inc., a domestic interested party, expressing concerns about the bankruptcy proceeding of GPX International Tire Corp., an importer of respondent's products and a related party during the period of review. According to the petitioner and the domestic interested party, the automatic stay provisions of the U.S. bankruptcy code precluded them from participating in this administrative review pending notice from the federal courts. Out of consideration for these parties' concerns, the Department issued extensions of regulatory deadlines until after the concerns of petitioner and the domestic interested party had been resolved. See Memorandum to the File from Andrew Huston, AD/CVD Operations, Office 6, “Due Date for Domestic Parties' Submissions,” dated April 30, 2010, stating the Department's conclusion that the concerns of the petitioner and the domestic party had been resolved and making a final extension of the regulatory deadlines to May 10, 2010.

As the sum of these extensions was more than three months, the Department requires additional time to conduct a thorough analysis of all information on the record, including information submitted by the petitioner and the domestic party. Therefore, the Department finds that it is not practicable to complete the preliminary results of this review within the original time limit and is extending the deadline for completion of the preliminary results of this administrative review by 120 days.

Additionally, as explained in the memorandum from the Deputy Assistant Secretary for Import Administration, the Department has exercised its discretion to toll deadlines for the duration of the closure of the Federal Government due to snowstorms in February. See Memorandum to the Record from Ronald Lorentzen, DAS for Import Administration, regarding “Tolling of Administrative Deadlines As a Result of the Government Closure During the Recent Snowstorm,” dated February 12, 2010. Therefore, the total extension of the deadline for the preliminary results of this administrative review is 127 days, and the revised extended due date for the preliminary results is October 7, 2010.

This notice is issued and published pursuant to sections 751(a)(3)(A) and 777(i)(1) of the Act.

Dated: May 28, 2010.
John M. Andersen,
Acting Deputy Assistant Secretary for Antidumping and Countervailing Duty Operations.

[FR Doc. 2010-13578 Filed 6-4-10; 8:45 am]

BILLING CODE 3510-DS-S